DEPARTMENT OF ENERGY

Federal Energy Regulatory Commission

[Project No. 1951-169]

Georgia Power Company; Notice of Application for Amendment of License and Soliciting Comments, Motions To Intervene, and Protests

March 23, 2010.

Take notice that the following hydroelectric application has been filed with the Commission and is available for public inspection:

a. Application Type: Non-project use of project lands and waters.

b. Project No: 1951-169.

c. Date Filed: February 22, 2010.

d. Applicant: Georgia Power Company.

e. Name of Project: Sinclair Hydroelectric Project.

f. Location: The proposed facilities would be located on Lake Sinclair, along Crooked Creek Drive, in Putnam County, Georgia.

g. Filed Pursuant to: Federal Power Act, 16 USC 791a-825r.

h. Applicant Contact: Mr. Herbie N. Johnson, Oconee-Sinclair Lake Resources Manager, Georgia Power Company, 125 Wallace Dam Road, NE., Eatonton, Georgia, 31024; 706-485-8704.

i. FERC Contact: Any questions regarding this notice should be directed to Isis Johnson, Telephone (202) 502-6346, and e-mail: isis.johnson@ferc.gov.

j. Deadline for filing comments, motions to intervene, and protest: April 23, 2010.

Comments, Motions to Intervene, and Protests may be filed electronically via the Internet. See, 18 CFR 385.2001(a)(1)(iii) and the instructions on the Commission's Web site at http://www.ferc.gov under the “e-Filing” link. If unable to be filed electronically, documents may be paper-filed. To paper-file, an original and eight copies should be mailed to: Secretary, Federal Energy Regulatory Commission, 888 First Street, NE., Washington, DC 20426. For more information on how to submit these types of filings, please so to the Commission's Web site located at http://www.ferc.gov.filing-comments.asp.

Please include the project number (P-1951-169) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Georgia Power Company requests Commission authorization to permit Classic City Marinas, LLC., to construct and install new facilities associated with the Crooked Creek Marina. The new facilities include two 10-slip community docks; a concrete ramp and boat lift pier, with 2 associated launching docks; 2 concrete boat ramps, with a single launching dock; and an additional 326 linear feet of wooden seawall. The proposal also includes removal of an existing trailer, wooden deck, and a 42-foot-long section of the existing wooden sea wall; and dredging of 212 cubic yards of sediment. The amount of concrete and asphalt paving in the project boundary would increase, however, a bio-retention area would be established, fish habitat structures would be installed, and native vegetation would be planted in disturbed areas.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-6984 Filed 3-29-10; 8:45 am]

BILLING CODE 6717-01-P